DEPARTMENT OF LABOR

Employment and Training Administration

[TA-W-38,921]

Glenshaw Glass Company, Inc. Glenshaw, PA; Notice of Affirmative Determination Regarding Application for Reconsideration

By letter of June 11, 2001, the workers requested administrative reconsideration of the Department of Labor's Notice of Negative Determination Regarding Eligibility to Apply for Worker Adjustment Assistance, petition TA-W-38,921. The denial notice was signed on May 15, 2001 and published in the Federal Register on May 25, 2001 (66 FR 28928).

The Department has reviewed the request for reconsideration and has determined that the Department will examine the petitioner's allegation claiming that the parent customer is importing glass containers similar to what the subject plant produced and selling the glass containers to the subject firm's customer base.

Conclusion

After careful review of the application, I conclude that the claim is of sufficient weight to justify reconsideration of the Department of Labor's prior decision. The application is therefore, granted.

Signed at Washington, DC this 30th day of November 2001.
Edward A. Tomchick,
Director, Division of Trade, Adjustment Assistance.

[FR Doc. 01-31620 Filed 12-21-01; 8:45 am]

BILLING CODE 4510-30-M